DEPARTMENT OF ENERGY

Federal Energy Regulatory Commission

[Docket No. IC01-719A-000, FERC-719A]

Proposed Information Collection and Request for Comments

January 3, 2001.

AGENCY: Federal Energy Regulatory Commission, DOE.

ACTION: Request for Office of Management and Budget Emergency Processing of proposed information collection and request for comments.

SUMMARY: The Federal Energy Regulatory Commission (Commission) is providing notice of its request to the Office of Management and Budget (OMB) for emergency processing of a proposed collection of information in connection with the California natural gas markets, and is soliciting public comment on that information collection.

DATES: The Commission and OMB must receive comments on or before January 10, 2001.

ADDRESSES: Send comments to: (1) Michael Miller, Office of the Chief Information Officer, CI-1, Federal Energy Regulatory Commission, 888 First Street NE, Washington, DC 20426. Mr. Miller may be reached by telephone at (202) 208-1415 and by e-mail at mike.miller@ferc.fed.us; and (2) Amy Farrell, FERC Desk Officer, Office of Information and Regulatory Affairs, Office of Management and Budget, Room 10202 NOEB, 725 17th Street NW, Washington, DC 20503 20426. Ms. Farrell may be reached by telephone at (202) 395-7318 or by fax at (202) 395-7285.

FOR FURTHER INFORMATION CONTACT: Mary Morton, Office of the General Counsel, Federal Energy Regulatory Commission. Ms. Morton may be reached by telephone at (202) 208-0642 and by e-mail at mary.morton@ferc.fed.us.

SUPPLEMENTARY INFORMATION: The Natural Gas Act directs the Commission to ensure just and reasonable rates for transportation and wholesale sales of natural gas. See 15 USC 717c(a). To enable the Commission to fulfill this duty, the Natural Gas Act also authorizes the Commission to conduct investigations of, and collect information from public utilities. See 15 USC 717g, 717i, and 717m.

On December 7, 2000, San Diego Gas & Electric Company (SDG&E), which provides natural gas and electricity to 1.2 million customers in San Diego County, filed a complaint with the Commission. See San Diego Gas & Electric Company, Docket No. RP01-180-000. SDG&E is asking the Commission to take certain steps on an emergency basis to remedy what SDG&E describes as the lack of workable competition in the California natural gas market. The Commission published notice of the complaint in the Federal Register and set a deadline of December 13, 2000, for comments. Numerous parties have filed comments.

In response to SDG&E's complaint, the Commission must determine if rates for transportation and wholesale sales of natural gas in California are just and reasonable, and, if they are not, which remedies are appropriate. The information provided so far by SDG&E and the intervening parties is not adequate to make these determinations. Therefore, the Commission is requesting additional information from the major natural gas marketers in California. These requests are subject to the Paperwork Reduction Act, which requires OMB to review certain federal reporting requirements. 44 USC 3507. Prices for natural gas in California have suddenly risen to levels significantly higher than those in other parts of the country. These price increases come at the start of a winter predicted to be much colder than average, in combination with an ongoing electricity emergency in California. Therefore, the Commission has requested emergency processing of this proposed information collection.

The Commission will refer to the reports being requested as “California Natural Gas Marketers' Reports.” Respondents would provide a one-time-only Report no later than January 16, 2001. The Reports would contain the following information for each gas sales transaction made at or into the California market during the months of November and December, 2000.

The contract's identification number;

The date the contract was entered into;

The identity of the buyer;

The volumes sold and/or transported;

The contract price;

The term of the contract;

The transportation component versus the gas commodity component;

The interstate pipeline that provided transportation; and

The maximum Part 284 transportation rate applicable to the contract. For contracts with a price equal to or greater than $15 per Dth, respondents would also provide:

A copy of the contract;

A copy of each associated upstream contract for transportation or gas purchase; and

The point where the respondent took title to the gas.

Fifteen marketers would be subject to this reporting requirement. The Commission estimates that it would take each respondent no more than 24 hours to generate the Report. Therefore, the total number of hours it would take to comply with the reporting requirement would be 360. The Commission estimates a cost of $50 per hour, based on salaries for professional and clerical staff, as well as direct and indirect overhead costs. Therefore, costs for each respondent would be $1,200, and total costs to comply with this request would be $18,000.

The Commission has submitted this reporting requirement to OMB for approval. OMB's regulations describe the process that federal agencies must follow in order to obtain OMB approval of reporting requirement. See 5 CFR part 1320. The standards for emergency processing of information collections appear at 5 CFR 1320.13. If OMB approves a reporting requirement, then it will assign an information collection control number to that requirement. If a request for information subject to OMB review has not been given a valid control number, then the recipient is not required to respond.

OMB requires federal agencies seeking approval of reporting requirements to allow the public an opportunity to comment on the proposed reporting requirement. 5 CFR 1320.5(a)(1)(iv). Therefore, the Commission is soliciting comment on: (1) Whether the collection of the information is necessary for the proper performance of the Commission's estimate of the burden of the collection of this information, including the validity of the methodology and assumptions used; (3) The quality, utility, and clarity of the information to be collected; and (4) How to minimize the burden of the collection of this information on respondents, including the use of appropriate automated electronic, mechanical, or other forms of information technology.

David P. Boergers,
Secretary.

[FR Doc. 01-518 Filed 1-8-01; 8:45 am]

BILLING CODE 6717-01-M